DEPARTMENT OF ENERGY

Federal Energy Regulatory Commission

[Docket No. PF14-14-000]

Rover Pipeline LLC, Notice of Intent To Prepare an Environmental Impact Statement for the Planned Rover Pipeline Project, Request for Comments on Environmental Issues, and Notice of Public Scoping Meetings

The staff of the Federal Energy Regulatory Commission (FERC or Commission) will prepare an environmental impact statement (EIS) that will discuss the environmental impacts of the planned Rover Pipeline Project (Project) involving construction and operation of facilities by Rover Pipeline LLC (Rover) in multiple counties in Michigan, Ohio, West Virginia, and Pennsylvania. The Commission will use this EIS in its decision-making process to determine whether the Project is in the public convenience and necessity.

This notice, which is being sent to the Commission's current environmental mailing list for the Project, announces the opening of the scoping process that will be used to gather input about the Project from the public and other interested stakeholders. State and local government representatives should notify their constituents about this process and encourage them to comment on their areas of concern. Scoping comments will help the Commission staff determine what issues will need to be evaluated in the EIS. Please note that the scoping period will close on December 18, 2014.

Comments about the Project may be submitted in written form or verbally. The Public Participation section of this notice describes how to submit written comments. Verbal comments can be given at the public scoping meetings to be held in the Project area as scheduled below.

Date and time | Meeting location
Monday, November 17, 2014, 6:00 p.m. EST | Toronto High School Cafetorium, 1305 Dennis Way, Toronto, OH 43964.
Tuesday, November 18, 2014, 6:00 p.m. EST | Matt Barker Building, 217 North 4th Avenue, Paden City, WV 26159.
Wednesday, November 19, 2014, 6:00 p.m. EST | Harrison Central High School Auditorium, 440 East Market Street, Cadiz, OH 43907.
Thursday, November 20, 2014, 6:00 p.m. EST | George Prinzing Auditorium, 500 Washington Street, Chelsea, MI 48118.
Monday, December 1, 2014, 6:00 p.m. EST | Adrian High School Auditorium, 785 Riverside Ave., Adrian, MI 49221.
Tuesday, December 2, 2014, 6:00 p.m. EST | Defiance College—Schomburg Auditorium, 701 North Clinton Street, Defiance, OH 43512.
Wednesday, December 3, 2014, 6:00 p.m. EST | Buckeye Central High School Auditorium, 938 South Kibler Street, New Washington, OH 44854.
Thursday, December 4, 2014, 6:00 p.m. EST | Fairless High School Auditorium, 11885 Navarre Road SW., Navarre, OH 44662.
Wednesday, December 10, 2014, 6:00 p.m. EST | Holiday Inn Gateway Center, 5353 Gateway Centre, Flint, MI 48507.
Thursday, December 11, 2014, 6:00 p.m. EST | Maniaci Banquet, 69227 North Main Street, Richmond, MI 48062.

The purpose of these scoping meetings is to provide the public an opportunity to learn more about the Commission's environmental review process, and to verbally comment on the Project. Each scoping meeting will start at 6:00 p.m. and representatives from Rover will be present one hour prior to each scoping meeting to answer questions about the Project. Affected landowners and other interested parties are encouraged to attend the scoping meetings and to give their comments on the issues they believe should be addressed in the EIS. A transcript of each meeting will be added to the Commission's administrative record to ensure that your comments are accurately recorded.

If you are a landowner receiving this notice, a pipeline company representative may contact you about the acquisition of an easement to construct, operate, and maintain the planned pipeline facilities. The company would seek to negotiate a mutually acceptable agreement. However, if the Commission approves the Project, that approval conveys with it the right of eminent domain. Therefore, if easement negotiations fail to produce an agreement, a condemnation proceeding could be initiated where compensation would be determined in accordance with state law.

The “For Citizens” section of the FERC Web site (www.ferc.gov) provides more information about the FERC and the environmental review process. This section also includes information about getting involved in FERC jurisdictional projects, and a citizens' guide entitled “An Interstate Natural Gas Facility On My Land? What Do I Need to Know?” This guide addresses a number of frequently asked questions, including the use of eminent domain and how to participate in the Commission's proceedings.

Summary of the Planned Project

Rover plans to use about 621 miles of operational right-of-way to construct and operate about 820 miles of interstate natural gas transmission pipeline and associated facilities in Michigan, Ohio, Pennsylvania, and West Virginia. The Project would originate near Cadiz in Harrison County, Ohio; would extend about 210 miles west to an interconnection with the Mid-west Hub; and then head northeast for about 209 miles to the Canadian/United States Border. The remaining 199 miles would be associated with eight supply laterals to service areas in Ohio, Pennsylvania, and West Virginia. Specifically, the Project would consist of the following components:

• Eight 24-, 30-, 36-, and 42-inch-diameter pipeline supply laterals (199.3 miles), in Washington County, Pennsylvania; Doddridge, Hancock, Tyler, and Wetzel Counties, West Virginia; and Belmont, Carroll, Harrison, Jefferson, Marshall, Monroe, and Noble Counties, Ohio;

• two collocated 42-inch-diameter pipelines, Mainline A (209.5 miles) and Mainline B (202.1 miles), in Ashland, Carroll, Crawford, Defiance, Hancock, Harrison, Henry, Richland, Seneca, Stark, Tuscarawas, Wayne, and Wood Counties, Ohio;

• one 42-inch-diameter pipeline, Market Segment (209.4 miles), in Defiance, Fulton, and Henry Counties, Ohio; and Genesee, Lapeer, Lenawee, Livingston, Macomb, Oakland, Shiawassee, St. Clair, and Washtenaw Counties, Michigan;

• ten new compressor stations (CS):

○ Cadiz CS in Harrison County, Ohio;

○ Clarington CS in Monroe County, Ohio;

○ Seneca CS in Noble County, Ohio;

○ Burgettstown CS in Washington County, Pennsylvania;

○ Majorsville CS in Marshall County, West Virginia;

○ Sherwood CS in Doddridge County, West Virginia;

○ Defiance CS in Defiance County, Ohio;

○ Mainline CS 1 in Carroll County, Ohio;

○ Mainline CS 2 in Wayne County, Ohio;

○ Mainline CS 3 in Crawford County, Ohio; and

• four new metering and regulating stations in Doddridge County, West Virginia; Monroe County, Ohio; and Washtenaw and Shiawassee Counties, Michigan.

The general location of the Project facilities is shown in appendix 1.¹

¹ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the Additional Information section at the end of this notice.

Land Requirements for Construction

Construction of the planned Project facilities would disturb about 12,147 acres of land. The typical construction right-of-way for pipeline facilities would vary between 125- and 150-feet-wide in uplands and 75- and 95-feet-wide in wetlands, with additional workspace needed in some locations due to site-specific conditions and activities. Following construction, approximately 4,567 acres of land would be retained for permanent operation of the facilities. Land affected by construction but not required for operation would generally be allowed to revert to former uses.

The EIS Process

The National Environmental Policy Act (NEPA) requires the Commission to take into account the environmental impacts that could result from an action whenever it considers the issuance of a Certificate of Public Convenience and Necessity under Section 7 of the Natural Gas Act. NEPA also requires us ² to discover and address concerns the public may have about proposals. This discovery process is commonly referred to as “scoping.” The main goal of the scoping process is to focus the analysis in the EIS on the important environmental issues. By this notice, the Commission requests public comments on the scope of the issues to be addressed in the EIS. All comments received will be considered during the preparation of the EIS, and addressed as appropriate.

² “We,” “us,” and “our” refer to the environmental staff of the Commission's Office of Energy Projects.

In the EIS we will discuss impacts that could occur as a result of the construction and operation of the planned Project under these general headings:

• Geology and soils;

• water resources, including surface waters and groundwater;

• wetlands;

• vegetation, fisheries, and wildlife;

• threatened and endangered species;

• land use;

• socioeconomics;

• cultural resources;

• air quality and noise;

• public safety and reliability; and

• cumulative impacts.

We will also evaluate alternatives to the Project, Project components, pipeline routes, and aboveground facility locations; and make recommendations on how to avoid or minimize impacts on the various resource areas.

Although no formal application has been filed, we have already initiated our NEPA review under the Commission's pre-filing process. The purpose of the pre-filing process is to encourage early involvement of interested stakeholders and to identify and resolve issues before the FERC receives an application. As part of our pre-filing review, we have begun to contact federal and state agencies to discuss their involvement in the scoping process and the preparation of the EIS.

The EIS will present our independent analysis of the issues. We will publish and distribute a draft EIS for public comment. After the comment period, we will consider all timely comments and revise the document, as necessary, before issuing a final EIS. To ensure we have the opportunity to consider and address your comments, please carefully follow the instructions in the Public Participation section below.

With this notice, we are asking agencies with jurisdiction by law and/or special expertise with respect to the environmental issues related to the Project to formally cooperate with us in the preparation of the EIS.³ Agencies that would like to request cooperating agency status should follow the instructions for filing comments provided under the Public Participation section of this notice. Currently, the Environmental Protection Agency (EPA), U.S. Army Corps of Engineers (COE), and Ohio EPA have expressed their intent to participate as cooperating agencies in the preparation of the EIS to satisfy their NEPA responsibilities related to this Project. The COE has jurisdictional authority pursuant to Section 404 of the Clean Water Act, which governs the discharge of dredged or fill material into waters of the United States, and Section 10 of the Rivers and Harbors Act, which regulates any work or structures that potentially affect the navigability of a waterway.

³ The Council on Environmental Quality regulations addressing cooperating agency responsibilities are at Title 40, Code of Federal Regulations, § 1501.6.

Consultations Under Section 106 of the National Historic Preservation Act

In accordance with the Advisory Council on Historic Preservation's implementing regulations for Section 106 of the National Historic Preservation Act, we are using this notice to initiate consultation with the Michigan, Ohio, Pennsylvania, and West Virginia State Historic Preservation Offices (SHPOs), and to solicit their views and those of other government agencies, interested Indian tribes, and the public on the Project's potential effects on historic properties.⁴ We will define the Project-specific Area of Potential Effects (APE) in consultation with the SHPOs as the Project develops. On natural gas facility projects, the APE at a minimum encompasses all areas subject to ground disturbance (examples include the construction right-of-way, contractor/pipe storage yards, compressor stations, meter stations, and access roads). Our EIS for the Project will document our findings on the impacts on historic properties and summarize the status of consultations under Section 106.

⁴ The Advisory Council on Historic Preservation regulations are at Title 36, Code of Federal Regulations, Part 800. Those regulations define historic properties as any prehistoric or historic district, site, building, structure, or object included in or eligible for inclusion in the National Register of Historic Places.

Currently Identified Environmental Issues

Based on our preliminary review of the Project; information provided by Rover; and public comments filed in the Commission's administrative record and submitted to staff at the applicant-sponsored open houses; we have identified numerous issues that we think deserve attention. This preliminary list of issues may change based on your comments and our ongoing environmental analysis. These issues are:

• Purpose and need for the Project;

• impacts of clearing forested areas and other vegetation;

• impacts on water resources including sensitive springs, groundwater, and wetlands;

• impacts on land use including agricultural lands and associated drainage systems;

• the use of eminent domain to obtain Project easements;

• impacts on property values and recreational resources;

• impacts from construction noise;

• pipeline integrity and public safety;

• alternatives; and

• cumulative impacts.

Public Participation

You can make a difference by providing us with your comments about the Project. Your comments should focus on the potential environmental impacts of the Project, reasonable alternatives, and measures to avoid or lessen these environmental impacts. The more specific your comments, the more useful they will be. To ensure that your comments are considered in a timely manner and properly recorded, please send your comments so that the Commission receives them in Washington, DC on or before December 18, 2014.

For your convenience, there are three methods you can use to submit your comments to the Commission. In all instances, please refer to the Project docket number (PF14-14-000) with your submission. The Commission encourages electronic filing of comments and has expert staff available to assist you at (202) 502-8258 or efiling@ferc.gov.

(1) You can file your comments electronically using the eComment feature located on the Commission's Web site (www.ferc.gov) under the Documents and Filings heading. This is an easy method for interested persons to submit brief, text-only comments on a Project;

(2) You can also file your comments electronically using the eFiling feature located on the Commission's Web site (www.ferc.gov) under the Documents and Filings heading. With eFiling, you can provide comments in a variety of formats by attaching them as a file with your submission. New eFiling users must first create an account by clicking on “eRegister.” You must select the type of filing you are making. If you are filing a comment on a particular project, please select “Comment on a Filing;” or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American tribes; other interested parties; and local libraries and newspapers. This list also includes all affected landowners (as defined in the Commission's regulations) who are potential right-of-way grantors, whose property may be used temporarily for Project purposes, or who own homes within certain distances of aboveground facilities, and anyone who has submitted comments on the Project in the Commission's administrative record. We will update the environmental mailing list as the analysis proceeds to ensure that we send the information related to this environmental review to all individuals, organizations, and government entities interested in and/or potentially affected by the planned Project.

Copies of the draft EIS will be sent to the environmental mailing list for review and comment. If you would prefer to receive a paper copy of the EIS instead of the compact disc version or if you would like to remove your name from the mailing list, please return the attached Information Request (appendix 2).

Becoming an Intervenor

Once Rover files an application with the Commission, you may want to become an “intervenor,” which is an official party to the Commission's proceeding. Intervenors play a more formal role in the process and are able to file briefs, appear at hearings, and be heard by the courts if they choose to appeal the Commission's final ruling. An intervenor formally participates in the proceeding by filing a request to intervene. Instructions for becoming an intervenor can be found under the “Getting Involved” heading of the “For Citizens” section on the FERC Web site. Please note that the Commission will not accept requests for intervenor status at this time. You must wait until the Commission receives a formal application for the Project.

Additional Information

Additional information about the Project is available from the Commission's Office of External Affairs at (866) 208-FERC or on the FERC Web site (www.ferc.gov) using the eLibrary link (http://www.ferc.gov/docs-filing/elibrary.asp). Click on the eLibrary link, click on “General Search,” and enter the docket number, excluding the last three digits (PF14-14). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp. Finally, public meetings or site visits will be posted on the Commission's calendar located at www.ferc.gov/EventCalendar/EventsList.aspx along with other related information.

Dated: November 4, 2014.
Kimberly D. Bose,
Secretary.

[FR Doc. 2014-27243 Filed 11-17-14; 8:45 am]

BILLING CODE 6717-01-P